SMALL BUSINESS ADMINISTRATION

[License No. 09/79-0455]

Rembrandt Venture Partners II, L.P.; Notice Seeking Exemption Under Section 312 of the Small Business Investment Act, Conflicts of Interest

Notice is hereby given that Rembrandt Venture Partners II, L.P., 2200 Sand Hill Road, Suite 160, Menlo Park, CA 94025, a Federal Licensee under the Small Business Investment Act of 1958, as amended (“the Act”), in connection with the financing of a small concern, has sought an exemption under section 312 of the Act and section 107.730, Financings which Constitute Conflicts of Interest of the Small Business Administration (“SBA”) Rules and Regulations (13 CFR 107.730). Rembrandt Venture Partners II, L.P. proposes to provide equity/debt security financing to Sylantro Systems Corporation, 910 East Hamilton Avenue, Campbell, CA 95008. The financing is contemplated for operating expenses and for general corporate purposes.

The financing is brought within the purview of § 107.730(a)(1) of the Regulations because Argo Global Capital and Schrier Holdings III, both Associates of Rembrandt Venture Partners II, L.P., own more than ten percent of Sylantro Systems Corporation. Therefore, Sylantro Systems Corporation, is considered an Associate of Rembrandt Venture Partners II, L.P., as defined at 13 CFR 107.50 of the SBIC Regulations.

Notice is hereby given that any interested person may submit written comments on the transaction to the Associate Administrator for Investment, U.S. Small Business Administration, 409 Third Street, SW., Washington, DC 20416.

Dated: June 28, 2006.
Jaime Guzman-Fournier,
Associate Administrator for Investment.

[FR Doc. E6-11315 Filed 7-17-06; 8:45 am]

BILLING CODE 8025-01-P